DEPARTMENT OF TRANSPORTATION

Coast Guard

33 CFR Part 165

CGD1-01-193

RIN 2115-AA97

Safety Zones; The Icebreaker Youth Rowing Championship—Boston Harbor, Boston, MA

AGENCY: Coast Guard, DOT.

ACTION: Temporary final rule.

SUMMARY: The Coast Guard is establishing temporary safety zones for the Icebreaker Youth Rowing Championship to be held on November 17, 2001 in Boston, MA. These safety zones are needed to protect the maritime public from any hazards. This rule will temporarily prohibit entry into all waters of Boston Inner Harbor within 300 yards around vessels participating in the Icebreaker Youth Rowing Championship.

DATES: This rule is effective from 8 a.m. until 4:30 p.m. on November 17, 2001.

ADDRESSES: Documents as indicated in this preamble are available for inspection or copying at Marine Safety Office Boston, 455 Commercial Street, Boston, MA between the hours of 8 a.m. and 3 p.m., Monday through Friday, except Federal holidays.

FOR FURTHER INFORMATION CONTACT: Chief Petty Officer Michael Popovich, Marine Safety Office Boston, Waterways Safety and Response Division, at (617) 223-3067.

SUPPLEMENTARY INFORMATION:

Regulatory History

Pursuant to 5 U.S.C. 553, a notice of proposed rulemaking (NPRM) was not published for this regulation. Good cause exists for not publishing a NPRM and for making this regulation effective in less than 30 days after publication in the Federal Register. Information about this event was not provided to the Coast Guard until October 22, 2001, making it impossible to draft or publish a NPRM or a final rule 30 days in advance of its effective date. Any delay encountered in this regulation's effective date would be unnecessary and contrary to public interest since immediate action is needed to prevent traffic from transiting a portion of the Boston Inner Harbor, Boston, Massachusetts, and provide for the safety of vessels participating in the Icebreaker Youth Rowing Championship, their crews, and others in the maritime community and to provide generally for safety of life on navigable waters. Additionally, these temporary safety zones will only exist during this 8-hour-and-30-minute-long local event and should have negligible impact on vessel transits because vessels are not precluded from using other portions of the waterway.

Background and Purpose

The Icebreaker Youth Rowing Championship will be taking place in Boston Inner Harbor on Saturday, November 17, 2001. This event is a round-robin race with two starting points, the Charles River Dam to Pier 2 at the Charlestown Navy Yard and Pier 4 at the Charlestown Navy Yard to a point off the U.S. Coast Guard Support Center. There will be four to six participating vessels, oared row boats, in this race. This regulation establishes safety zones in the waters of Boston Inner Harbor within 300 yards of the participating vessels.

These safety zones are in effect from 8 a.m. to 4:30 p.m. on November 17, 2001. These safety zones prohibit entry into or movement within these portions of the Boston Inner Harbor and are needed to protect participating vessels and their crews, and the maritime public from possible collision between participating vessels and others in the maritime community. Marine traffic may transit safely outside of the safety zones during the event. The Captain of the Port does not anticipate any negative impact on vessel traffic due to this event. Public notifications will be made prior to the effective period via local notice to mariners and marine information broadcasts.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

The Coast Guard expects the economic impact of this rule to be so minimal that a full Regulatory Evaluation under paragraph 10e of the regulatory policies and procedures of DOT is unnecessary.

Although this regulation prevents traffic from transiting a portion of the Boston Inner Harbor during this event, the effect of this regulation will not be significant for several reasons: the minimal time that vessels will be restricted from the zones, that vessels may safely transit outside of the safety zones, and advance notifications which will be made to the local maritime community by marine information broadcasts.

Small Entities

Under the Regulatory Flexibility Act (5 U.S.C. 601-612), the Coast Guard considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit or anchor in a portion of the Boston Inner Harbor from 8 a.m. until 4:30 p.m. November 17, 2001. These safety zones will not have a significant economic impact on a substantial number of small entities for the following reasons: vessel traffic can safely pass outside of the safety zones during the event, the event is limited in duration, and the Coast Guard will issue maritime advisories before the effective period via marine information broadcasts.

Collection of Information

This rule would call for no new collection of information under the Paperwork Reduction Act of 1995 (44 U.S.C. 3501-3520).

Federalism

The Coast Guard analyzed this rule under Executive Order 13132 and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard analyzed this rule under Executive Order 13045, Protection of Children from Environmental Health Risks and Safety Risks. This rule is not an economically significant rule and does not pose an environmental risk to health or risk to safety that may disproportionately affect children.

Indian Tribal Governments

This rule does not have tribal implications under Executive Order 13175, Consultation and Coordination with Indian Tribal Governments. A rule with tribal implications has a substantial direct effect on one or more Indian tribes, on the relationship between the Federal Government and Indian tribes, or on the distribution of power and responsibilities between the Federal Government and Indian tribes.

Environment

The Coast Guard considered the environmental impact of this rule and concluded that, under figure 2-1, (34)(g), of Commandant Instruction M16475.lD, this rule is categorically excluded from further environmental documentation. A “Categorical Exclusion Determination” is available in the docket where indicated under ADDRESSES.

Energy Effects

We have analyzed this rule under Executive Order 13211, Actions Concerning Regulations that Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.

2. Add temporary § 165.T01-193 to read as follows:

§ 165.T01-193 Safety Zones: The Icebreaker Youth Rowing Championship—Boston Harbor, Boston, Massachusetts.

(a) Location. The following areas are safety zones: All waters of Boston Inner Harbor within 300 yards of row boats participating in the Icebreaker Youth Rowing Championship.

(b) Effective date. This section is effective from 8 a.m. until 4:30 p.m. on November 17, 2001.

(c) Regulations. (1) In accordance with the general regulations in § 165.23 of this part, entry into or movement within these zones is prohibited unless authorized by the Captain of the Port Boston.

(2) All vessel operators shall comply with the instructions of the COTP or the designated on-scene U.S. Coast Guard patrol personnel. On-scene Coast Guard patrol personnel include commissioned, warrant, and petty officers of the Coast Guard on board Coast Guard, Coast Guard Auxiliary, local, state, and federal law enforcement vessels.

Dated: October 30, 2001.
B.M. Salerno,
Captain, U. S. Coast Guard, Captain of the Port, Boston, Massachusetts.

[FR Doc. 01-28620 Filed 11-14-01; 8:45 am]

BILLING CODE 4910-15-U